DEPARTMENT OF COMMERCE

National Oceanic and Atmospheric Administration

RIN 0648-XD403

Pacific Island Fisheries; Marine Conservation Plan for the Northern Mariana Islands

AGENCY: National Marine Fisheries Service (NMFS), National Oceanic and Atmospheric Administration (NOAA), Commerce.

ACTION: Notice of agency decision.

SUMMARY: NMFS announces approval of a marine conservation plan (MCP) for the Northern Mariana Islands.

DATES: This agency decision is effective from August 4, 2014, through August 3, 2017.

ADDRESSES: You may obtain a copy of the MCP, identified by NOAA-NMFS-2014-0007, from the Federal e-Rulemaking Portal, www.regulations.gov/#!docketDetail;D=NOAA-NMFS-2014-0007, or from the Western Pacific Fishery Management Council (Council), 1164 Bishop St., Suite 1400, Honolulu, HI 96813, tel 808-522-8220, www.wpcouncil.org.

FOR FURTHER INFORMATION CONTACT: Jarad Makaiau, Sustainable Fisheries, NMFS Pacific Islands Regional Office, 808-725-5176.

SUPPLEMENTARY INFORMATION: Section 204(e) of the Magnuson-Stevens Fishery Conservation and Management Act (Magnuson-Stevens Act) authorizes the Secretary of State, with the concurrence of the Secretary of Commerce (Secretary) and in consultation with the Council, to negotiate and enter into a Pacific Insular Area fishery agreement (PIAFA). A PIAFA would allow foreign fishing within the U.S. Exclusive Economic Zone (EEZ) adjacent to American Samoa, Guam, or the Northern Mariana Islands with the concurrence of, and in consultation with, the Governor of the Pacific Insular Area to which the PIAFA applies. Before entering into a PIAFA, the appropriate Governor, with the concurrence of the Council, must develop a 3-year MCP providing details on uses for any funds collected by the Secretary under the PIAFA.

The Magnuson-Stevens Act requires payments received under a PIAFA to be deposited into the United States Treasury and then conveyed to the Treasury of the Pacific Insular Area for which funds were collected. In the case of violations by foreign fishing vessels in the EEZ around any Pacific Insular Area, amounts received by the Secretary attributable to fines and penalties imposed under the Magnuson-Stevens Act, including sums collected from the forfeiture and disposition or sale of property seized subject to its authority, shall be deposited into the Treasury of the Pacific Insular Area adjacent to the EEZ in which the violation occurred, after direct costs of the enforcement action are subtracted. The government may use funds deposited into the Treasury of the Pacific Insular Area for fisheries enforcement and for implementation of an MCP.

An MCP must be consistent with the Council's fishery ecosystem plans, must identify conservation and management objectives (including criteria for determining when such objectives have been met), and must prioritize planned marine conservation projects. Although no foreign fishing is being considered at this time, at its 160th meeting held June 24-27, 2014, in Honolulu, the Council reviewed and approved the MCP for the Commonwealth of the Northern Mariana Islands (CNMI) and recommended its submission to the Secretary for approval. On July 11, 2014, the Governor of the CNMI submitted the MCP to NMFS, the designee of the Secretary, for review and approval.

The CNMI MCP contains seven conservation and management objectives, listed below. Please refer to the MCP for planned projects and activities designed to meet each objective, the evaluative criteria, and priority rankings.

MCP Objectives:

1. Improve fisheries data collection and reporting.

2. Conduct resource assessment, monitoring, and research to gain a better understanding of marine resources and fisheries.

3. Conduct enforcement training and monitoring activities to promote compliance with federal and local mandates.

4. Promote responsible domestic fisheries development to provide long-term economic growth, stability, and local food production.

5. Conduct education and outreach, enhance public participation, and build local capacity.

6. Promote an ecosystem approach to fisheries management, climate change adaptation and mitigation, and regional cooperation.

7. Recognize the importance of island cultures and traditional fishing practices in managing fishery resources, and foster opportunities for participation.

This notice announces that NMFS has determined that the CNMI MCP satisfies the requirements of the Magnuson-Stevens Act and approves the MCP for the 3-year period from August 4, 2014, through August 3, 2017. This MCP supersedes the one approved for the period August 4, 2011 through August 3, 2014 (76 FR 50183, August 12, 2011).

Dated: July 21, 2014.
Emily H. Menashes,
Acting Director, Office of Sustainable Fisheries, National Marine Fisheries Service.

[FR Doc. 2014-17537 Filed 7-24-14; 8:45 am]

BILLING CODE 3510-22-P